DEPARTMENT OF ENERGY

[OE Docket No. PP-387]

Application for Presidential Permit; Soule River Hydroelectric Project: Correction

AGENCY: Office of Electricity Delivery and Energy Reliability, DOE.

ACTION: Notice of Application; correction.

SUMMARY: The Department of Energy (DOE) Office of Electricity Delivery and Energy Reliability corrects a Notice of Application published in the Federal Register (76 FR 50726) on July 30, 2013, to revise the DOE point of contact and program Web site for Docket No. PP-387.

ADDRESSES: Comments, protests, or motions to intervene should be addressed as follows:

Christopher Lawrence, Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov or Katherine L. Konieczny (Attorney-Adviser) at 202-586-0503 or via electronic mail at Katherine.Konieczny@hq.doe.gov.

Procedural Matters: Copies of this application will be made available, upon request, for public inspection and copying at the address provided above, by accessing the program Web site at http://energy.gov/oe/services/electricity-policy-coordination-and-implementation/international-electricity-regulatio-2, or by emailing Angela Troy at angela.troy@hq.doe.gov.

Issued in Washington, DC, on August 5, 2013.
Brian Mills,
Director, Permitting and Siting, Office of Electricity Delivery and Energy Reliability.

[FR Doc. 2013-19311 Filed 8-8-13; 8:45 am]

BILLING CODE 6450-01-P